DEPARTMENT OF JUSTICE

Notice of Lodging of Consent Decree Under the Comprehensive Environmental Response, Compensation and Liability Act

Notice is hereby given that on August 26, 2010, two proposed Consent Decrees were lodged with the United States District Court for the District of Minnesota in United States v. International Paper Company, et al., Civil Action No. 10-cv-03749-ADM-XXX.

In this action, the United States asserted claims against three parties for recovery of response costs incurred by the United States in connection with the St. Regis Paper Company Superfund Site (the “Site”) in Cass Lake, Minnesota, pursuant to Section 107 of the Comprehensive Environmental Response, Compensation and Liability Act (“CERCLA”), 42 U.S.C. 9607.

The proposed Consent Decrees would resolve claims that the United States has asserted against all three parties. Under the first proposed Consent Decree (“the International Paper-BNSF Railway Consent Decree”), International Paper Company and BNSF Railway Company will reimburse $3,662,475.00 of the costs incurred by the United States in connection with the Site through December 31, 2008. Under the second proposed Consent Decree (“the Cass Forest Products Consent Decree”), Cass Forest Products, Inc. will pay an additional $500 to resolve its liability for response costs incurred, or to be incurred by the United States in connection with the Site. This settlement is based on Cass Forest Products, Inc.'s ability to pay.

The Department of Justice will receive comments relating to these Consent Decrees for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. International Paper Company, et al., Civil Action No.10-cv-03749-ADM-XXX, DJ # 90-11-3-06790/2.

The Consent Decrees may be examined at the Office of the United States Attorney, District of Minnesota, 600 United States Courthouse, 300 South Fourth Street, Minneapolis, MN, 55414 and at U.S. EPA Region 5, 77 W. Jackson Blvd., Chicago, IL 60604. During the public comment period, the Consent Decrees may also be examined on the following Department of Justice Web site, http://www.usdoj.gov/enrd/Consent_ Decrees.html. A copy of the Consent Decrees may also be obtained by mail from the Consent Decree Library, U.S. Department of Justice, P.O. Box 7611, Washington, DC 20044-7611 or by faxing or e-mailing a request to Tonia Fleetwood (tonia.fleetwood@usdoj.gov), fax number (202) 514-0097, phone confirmation number (202) 514-1547. In requesting a copy of the International Paper-BNSF Railway Consent Decree from the Consent Decree Library, please enclose a check in the amount of $6.25 (25 cents per page reproduction cost) payable to the U.S. Treasury or, if by e-mail or fax, forward a check in that amount to the Consent Decree Library at the stated address. In requesting a copy of the Cass Forest Products Consent Decree from the Consent Decree Library, please enclose a check in the amount of $16.25 (25 cents per page reproduction cost) payable to the U.S. Treasury or, if by e-mail or fax, forward a check in that amount to the Consent Decree Library at the stated address.

Maureen Katz,
Assistant Section Chief, Environmental Enforcement Section, Environment and Natural Resources Division, United States Department of Justice.

[FR Doc. 2010-21808 Filed 8-31-10; 8:45 am]

BILLING CODE 4410-15-P